ENVIRONMENTAL PROTECTION AGENCY

40 CFR Part 52

[EPA-R05-OAR-2014-0123; FRL-9917-42-Region 5]

Approval and Promulgation of Air Quality Implementation Plans; Illinois; Amendments to Gasoline Vapor Recovery Requirements for Illinois

AGENCY: Environmental Protection Agency (EPA).

ACTION: Direct final rule.

SUMMARY: The Environmental Protection Agency (EPA) is approving a state implementation plan (SIP) revision submitted by the Illinois Environmental Protection Agency (IEPA) on January 17, 2014, concerning the state's gasoline vapor recovery requirements. The revision phases out the Stage II vapor recovery (Stage II) program requirements in the Illinois portion of the Chicago ozone nonattainment area (NAA) as a component of the Illinois ozone SIP. The SIP revision also includes amendments to the state's permitting regulations applicable to storage tanks and fuel dispensing, including repealing the Stage I vapor recovery (Stage I) registration provisions due to overlapping Federal notification requirements and state tracking systems for gasoline dispensing operations. Finally, the SIP revision includes other clarifying and clean-up amendments at 35 Ill. Adm. Code Parts 201, 218, and 219. The submittal also includes a demonstration under section 110(l) of the Clean Air Act (CAA) that shows there are no emissions impacts associated with the removal of the program.

DATES: This direct final rule is effective December 16, 2014, unless EPA receives adverse comments by November 17, 2014. If adverse comments are received, EPA will publish a timely withdrawal of the direct final rule in the Federal Register informing the public that the rule will not take effect.

ADDRESSES: Submit your comments, identified by Docket ID No. EPA-R05-OAR-2014-0123, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2014-0123. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Francisco J. Acevedo, Mobile Source Program Manager, at (312) 886-6061 before visiting the Region 5 office.

FOR FURTHER INFORMATION CONTACT: Francisco J. Acevedo, Mobile Source Program Manager, Control Strategies Section, Air Programs Branch (AR-18J), Environmental Protection Agency, Region 5, 77 West Jackson Boulevard, Chicago, Illinois 60604, (312) 886-6061, acevedo.francisco@epa.gov.

SUPPLEMENTARY INFORMATION: Throughout this document whenever “we,” “us,” or “our” is used, we mean EPA. This supplementary information section is arranged as follows:

I. What is the Background for Illinois' Stage II Vapor Recovery Program?

II. What Changes Have Been Made to Illinois' Gasoline Vapor Recovery Requirements?

III. What is EPA's Analysis of the State's Submittal?

IV. What Action is EPA Taking?

V. Statutory and Executive Order Reviews

I. What is the background for Illinois' Stage II Vapor Recovery Program?

Stage II and onboard refueling vapor recovery systems (ORVR) are two types of emission control systems that capture fuel vapors from vehicle gas tanks during refueling. Stage II systems are specifically installed at gasoline dispensing facilities (GDF) and capture the refueling fuel vapors at the gasoline pump nozzle. The system carries the vapors back to the underground storage tank at the GDF to prevent the vapors from escaping to the atmosphere. ORVR systems are carbon canisters installed directly on automobiles to capture the fuel vapors evacuated from the gasoline tank before they reach the nozzle. The fuel vapors captured in the carbon canisters are then combusted in the engine when the automobile is in operation. Stage II and vehicle ORVR were initially both required by the 1990 Amendments to the CAA under sections 182(b)(3) and 202(a)(6), respectively. In some areas, Stage II has been in place for over 25 years, but was not widely implemented by the states until the early to mid-1990s as a result of the CAA requirements for moderate, serious, severe, and extreme ozone NAAs and for states in the Northeast Ozone Transport Region (OTR) under CAA section 184(b)(2). CAA section 202(a)(6) required EPA to promulgate regulations for ORVR for light-duty vehicles (passenger cars). EPA adopted these requirements in 1994, at which point moderate ozone NAAs were no longer subject to the section 182(b)(3) Stage II requirement. However, some moderate areas retained Stage II requirements to provide a control method to comply with rate-of-progress emission reduction targets. ORVR equipment has been phased in for new passenger vehicles beginning with model year 1998, and starting in 2001 for light-duty trucks and most heavy-duty gasoline-powered vehicles. ORVR equipment has been installed on nearly all new gasoline-powered light-duty vehicles, light-duty trucks and heavy-duty vehicles since 2006.

During the phase-in of ORVR controls, Stage II has provided volatile organic compound (VOC) reductions in ozone NAAs and certain attainment areas of the OTR. Congress recognized that ORVR and Stage II would eventually become largely redundant technologies, and provided authority to EPA to allow states to remove Stage II from their SIPs after EPA finds that ORVR is in widespread use. Effective May 16, 2012, the date the final rule was published in the Federal Register (77 FR 28772), EPA determined that ORVR is in widespread nationwide use for control of gasoline emissions during refueling of vehicles at GDFs. Currently, more than 75 percent of gasoline refueling nationwide occurs with ORVR-equipped vehicles, so Stage II programs have become largely redundant control systems and Stage II systems achieve an ever declining emissions benefit as more ORVR-equipped vehicles continue to enter the on-road motor vehicle fleet.¹ EPA also exercised its authority under CAA section 202(a)(6) to waive certain Federal statutory requirements for Stage II gasoline vapor recovery at GDFs. This decision exempts all new ozone NAAs classified serious or above from the requirement to adopt Stage II control programs. Similarly, any states currently implementing Stage II programs may submit SIP revisions that, once approved by EPA, would allow for the phase out of Stage II control systems.

¹ In areas where certain types of vacuum-assist Stage II systems are used, the differences in operational design characteristics between ORVR and some configurations of these Stage II systems result in the reduction of overall control system efficiency compared to what could have been achieved relative to the individual control efficiencies of either ORVR or Stage II emissions from the vehicle fuel tank.

On September 30, 1992, Illinois submitted Stage II vapor recovery rules as a SIP revision to EPA to satisfy the requirement of section 182(b)(3) of the CAA. The revision applied to the Chicago NAA (Cook, DuPage, Kane, Lake, McHenry, Will Counties and Aux Sable and Goose Lake Townships in Grundy County and Oswego Township in Kendall County) and Metro-East St. Louis NAA (Madison, Monroe, and St. Clair Counties). EPA fully approved Illinois' Stage II program on January 12, 1993 (58 FR 3841), including the program's legal authority and administrative requirements found in Sections 218.583, 219.583, 218.586, and 219.586 of the Illinois Administrative Code (Ill. Adm. Code). In 1994, Illinois repealed the Stage II requirements for the Metro-East NAA under Ill. Adm. Code 219.586 due to the promulgation by EPA of regulations for ORVR for light-duty vehicles, at which point, moderate ozone NAAs like the Metro-East, were no longer subject to the section 182(b)(3) Stage II requirement. EPA approved Illinois request to repeal the Stage II vapor recovery control requirements for the Metro-East St. Louis NAA on December 16, 1994 (59 FR 64853).

II. What changes have been made to Illinois' gasoline vapor recovery requirements?

On January 17, 2014, IEPA submitted a SIP revision requesting the phase-out of Stage II requirements for the Chicago area. To support the removal of the Stage II requirements, the revision included amended copies of 35 Ill. Adm. Code Parts 201, 218, and 219 effective on December 23, 2013, authorizing the phase-out of Stage II requirements in Illinois; modeling using EPA's MOVES2010b model to determine emission impacts of maintaining and removing the Stage II program; and a demonstration under CAA section 110(l). The CAA 110(l) demonstration included in the state's SIP revision specifically shows that there are no emission reduction losses resulting from the removal of Stage II program requirements in the Illinois portion of the Chicago NAA. IEPA calculated that by 2014 there is a “cross-over point” after which the simultaneous use of ORVR and incompatible Stage II systems would begin to result in an emissions disbenefit. Modeling demonstrates that beginning in 2014, ORVR alone would start to provide greater reductions in refueling emissions than the simultaneous use of ORVR and Stage II in the Illinois portion of the Chicago ozone NAA.

As discussed above, the amended rules submitted by Illinois as part of this SIP revision primarily serve to phase-out the Stage II requirements at GDFs in the Illinois portion of the Chicago NAA, implement decommissioning procedures by which GDFs are to appropriately decommission their current vapor recovery equipment, and establish timeframes for these actions to take place. These amendments, as described in detail below, affect 35 Ill. Adm. Code Part 218. In addition, IEPA has submitted clarifying and clean-up amendments in 35 Ill. Adm. Code Parts 201 and 219 that are further discussed below.

Subpart Y of 35 Ill. Adm. Code Part 218 contains the “Gasoline Distribution” regulations for the Chicago NAA including the “Motor Vehicle Fueling Operations” requirements in section 218.586. The majority of the rule revisions prompted by the proposed phase-out of the Stage II program occur in this section. In addition to the substantive revisions to the rules addressing the phase-out of the Stage II program and the inclusion of decommissioning procedures, certain provisions are either being deleted as no longer necessary, revised for clarity, or updated to replace outdated references. The primary changes to section 218.586 to phase-out the Stage II program occur with revisions to subsection 218.586(d), now titled “Compliance”, and with the addition of subsection 218.586(i) “Decommissioning.” Subsections 218.586(d)(1) through (5), which previously defined the time frame by which GDFs of certain monthly gasoline throughput were required to comply with the vapor recovery and control requirements, have been deleted. Instead, Illinois is requiring in a new subsection (d)(1) that existing affected GDFs continue operating such equipment until decommissioning is commenced. As provided by subsection 218.586(d)(2), new GDFs will not be subject to Stage II vapor recovery requirements.

Section 218.586(i) defines the decommissioning timeframes and procedures. As discussed earlier, in 2014, the vehicle refueling emission reductions achieved by the widespread use of ORVR-equipped vehicles will exceed reductions achieved by the continued operation of the Stage II program. Thus, the continued operation of the Stage II program will provide no additional emission reduction benefit. As a result, under section 218.586(i)(1)(A), Illinois allowed existing affected GDFs to begin decommissioning their Stage II vapor recovery equipment as of January 1, 2014. As provided by section 218.586(i)(1)(B), all Stage II equipment must be decommissioned by December 31, 2016. In order to minimize the time that incompatible Stage II systems are in operation, all existing affected GDFs must complete the decommissioning process within three years from January 1, 2014. Subsection 218.586(i)(2) contains the decommissioning procedures and standards. Decommissioning must be performed in accordance with the Petroleum Equipment Institute's “Recommended Practices for Installation and Testing of Vapor-Recovery Systems at Vehicle-Fueling Sites,” PEI/RP300-09, which Illinois has incorporated by reference at 35 Ill. Adm. Code 218.112. Further, subsection 218.586(i)(2)(B) requires contractors involved in the decommissioning process to be registered and licensed by the State. Subsection 218.586(i)(2)(B) also requires the pressure decay test and tie-tank test to be performed and passed using specified procedures. Illinois also requires in subsection 218.586(i)(2)(A) that the owners or operators of GDFs provide a notice of intent to decommission to IEPA at least 10 days prior to commencing decommissioning. This notice would allow the state the ability to schedule an inspector to be present when the decommissioning takes place to the extent this is necessary. Subsection 218.586(i)(2)(C) requires owners or operators of the affected GDFs and contractors to complete and sign a Stage II decommissioning checklist and certification, to be developed by IEPA, documenting the decommissioning procedures performed. Within 30 days after completion of the decommissioning procedures, owners or operators must provide the completed checklist and certification and the test results to IEPA. Subsection 218.586(g)(4) requires all decommissioning records to be maintained for five years after decommissioning and made available to IEPA upon request.

The Stage I regulations in sections 218.583 and 219.583 require controls for vapors displaced from storage tanks at GDFs during the transfer of gasoline from product delivery vessels. In sections 218.583(e) and 219.583(e) which address storage tank filling operations, Illinois repealed the registration program for GDFs subject to the Stage I vapor recovery requirements in the Chicago and Metro-East NAAs, respectively, due to overlapping Federal notification requirements at 40 CFR part 63, subpart CCCCCC. The Federal National Emission Standards for Hazardous Air Pollutants (NESHAP) rules for GDFs at 40 CFR part 63, subpart CCCCCC include notification requirements for those that dispense 10,000 gallons of gasoline or more per month. This would cover all GDFs, including those subject to Stage I and II requirements. The Stage II registration requirements at section 218.586(h) remain in effect until a GDF begins the decommissioning process.

Previously, GDFs that registered under the state's Stage I and Stage II programs were exempted from the requirements of having to obtain a permit under the state's minor source permitting program. By decommissioning, GDFs would no longer be required to be registered with the State II program, resulting in the unintended consequence of requiring permitting of such sources. Therefore, Illinois has clarified the rules so that registration will no longer be required in order to obtain an exemption from permitting and believes that one permit exemption, contained in one place in the Illinois Administrative Code, is less confusing than dual permit exemptions. The changes continue the existing exemptions under both programs.

Section 201.146 provides exemptions from state permit requirements. Illinois has established a single Stage II permit exemption in section 201.146(l) which is combined with a permit exemption for Stage I. This Stage II permit exemption applies to fuel dispensing equipment that is used for dispensing any fuel to mobile sources for use in such sources. Additionally, the amendments clarify sections 201.146(n) and (nn), and repeal section 201.146(kk) which provided an exemption from permitting for sources that register with IEPA since it is no longer necessary. Further, the amendments clarify the requirements for annual emission reports at Section 201.302.

Illinois has also included other revisions to 35 Ill. Adm. Code Part 219 that apply to the Metro-East NAA which includes Madison, Monroe, and St. Clair counties. Section 219.105 sets forth test methods and procedures used in conjunction with this Part. Section 219.105(j) which includes the Stage II gasoline vapor recovery test methods is no longer applicable due to the repeal of the Metro-East NAA Stage II rule in February 1994, therefore Illinois has repealed these test methods. Illinois has also removed the incorporation by reference of EPA's Stage II vapor recovery technical guidance in section 219.112(v) since this guidance is no longer applicable due to the repeal of the Metro-East NAA Stage II requirements in 1994.

III. What is EPA's analysis of the State's submittal?

Our primary consideration for determining the approvability of the Illinois revisions to remove Stage II requirements from the SIP is whether these revisions comply with section 110(l) of the CAA. Section 110(l) of the CAA provides that EPA cannot approve a SIP revision if that revision interferes with any applicable requirement regarding attainment and reasonable further progress or any other requirement established in the CAA. The EPA can, however, approve a SIP revision that removes or modifies control measures in the SIP once the State makes a “noninterference” demonstration that such removal or modification will not interfere with attainment of the NAAQS, or any other CAA requirement. Illinois has evaluated the impacts of approving these revisions. The phase-out of the Stage II program in the Illinois portion of the Chicago ozone NAA found in section 218.586 would result in no loss of emissions reductions since IEPA has determined that beginning in 2014, Stage II will no longer be necessary and its continued use would result in the release of more refueling emissions than with ORVR alone. This is primarily due to the incompatibility of the two systems and the widespread use of ORVR in the Chicago NAA.

The removal of the State's registration requirements for Stage I operations is not a relaxation, since the Federal NESHAP (40 CFR part 63, subpart CCCCCC) includes a notification provision at 40 CFR 63.11124 requesting similar information to what was required in Illinois' rules. The deletion of the State requirement basically removes a duplicative regulation and decreases the administrative burden on such sources while still providing all the necessary information to IEPA. All notifications under the NESHAP are submitted to IEPA because it has been delegated authority to implement and enforce the NESHAP. Finally, the clarification to the state's permitting exemption requirements indicating that Stage I and Stage II registration is no longer required to obtain an exemption from permitting, would result in no loss of emissions reductions as the changes to the requirements only continue the existing exemptions for these sources.

IV. What action is EPA taking?

EPA is approving the revisions to the Illinois ozone SIP submitted on January 17, 2014, concerning the State's Stage II vapor recovery program standards in Illinois. EPA is also approving amendments to 35 Ill. Adm. Code Parts 201, 218, and 219 to make necessary updates and to be consistent with the repeal of the Stage II program standards. EPA finds that the revisions will not interfere with any applicable requirement concerning attainment, reasonable further progress or any other applicable CAA requirement.

We are publishing this action without prior proposal because we view this as a noncontroversial amendment and anticipate no adverse comments. However, in the proposed rules section of this Federal Register publication, we are publishing a separate document that will serve as the proposal to approve the state plan if relevant adverse written comments are filed. This rule will be effective December 16, 2014 without further notice unless we receive relevant adverse written comments by November 17, 2014. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 16, 2014.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

This rule is not approved to apply on any Indian reservation land or in any other area where EPA or an Indian tribe has demonstrated that a tribe has jurisdiction. In those areas of Indian country, the rule does not have tribal implications as specified by Executive Order 13175, nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 16, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Oxides of nitrogen, Ozone, Volatile organic compounds.

Dated: September 24, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. Section 52.720 is amended by adding paragraph (c)(202) to read as follows:

§ 52.720 Identification of plan.

* * * * *

(c) * * *

(202) On January 17, 2013, the Illinois Environmental Protection Agency submitted a request to phase out Stage II vapor recovery standards at 35 Ill. Adm. Code 218.586 and to make other related revisions to 35 Ill. Adm. Code Parts 201, 218, and 219.

(i) Incorporation by reference.

(A) Illinois Administrative Code, Title 35: Environmental Protection, Subtitle B: Air Pollution, Chapter I: Pollution Control Board, Subchapter a: Permits and General Provisions, Part 201: Permits and General Provisions, Subpart C: Prohibitions, Section 201.146 “Exemptions from State Permit Requirements” and Subpart K: Records and Reports, Section 201.302 “Reports”, effective December 23, 2013.

(B) Illinois Administrative Code, Title 35: Environmental Protection, Subtitle B: Air Pollution, Chapter I: Pollution Control Board, Subchapter C: Emissions Standards And Limitations For Stationary Sources, Part 218: Organic Material Emission Standards and Limitations For the Chicago Area, Subpart A: General Provisions, Section 218.112 “Incorporations By Reference” and Subpart Y: Gasoline Distribution, Sections 218.583 “Gasoline Dispensing Operations—Storage Tank Filling Operations” and 218.586 “Gasoline Dispensing Operations—Motor Vehicle Fueling Operations”, effective December 23, 2013.

(C) Illinois Administrative Code, Title 35: Environmental Protection, Subtitle B: Air Pollution, Chapter I: Pollution Control Board, Subchapter c: Emission Standards and Limitations for Stationary Sources, Part 219: Organic Material Emission Standards and Limitations for the Metro East Area, Subpart A: General Provisions, Sections 219.105 “Test Methods and Procedures” and 219.112 “Incorporations by Reference”, and Subpart Y: Gasoline Distribution, Section 219.583 “Gasoline Dispensing Operations—Storage Tank Filling Operations”, effective December 23, 2013.

[FR Doc. 2014-24462 Filed 10-16-14; 8:45 am]

BILLING CODE 6560-50-P